DEPARTMENT OF COMMERCE

Economic Development Administration

Notice of National Advisory Council on Innovation and Entrepreneurship Meeting; Correction

AGENCY: Economic Development Administration, U.S. Department of Commerce.

ACTION: Notice of an open meeting; correction.

SUMMARY: The Economic Development Administration published a document in the Federal Register on July 18, 2024, concerning a virtual public meeting of the National Advisory Council on Innovation and Entrepreneurship (NACIE). The document contained incorrect dates.

DATES: August 20, 2024, 2 p.m.-3 p.m. eastern time (ET).

FOR FURTHER INFORMATION CONTACT: Eric Smith, Office of the Assistant Secretary, 1401 Constitution Avenue NW, Room 78018, Washington, DC 20230; email: nacie@doc.gov; telephone: +1 202 482 8001. Please reference “NACIE August 2024 Meeting” in the subject line of your correspondence.

SUPPLEMENTARY INFORMATION:

Correction

In the Federal Register of July 18, 2024, in FR Doc. 2024-15753, on page 58331, in the first column, correct the DATES caption to read:

Dated: July 31, 2024.
Eric Smith,
Tech Hubs Program Director.

[FR Doc. 2024-17198 Filed 8-2-24; 8:45 am]

BILLING CODE 3510-24-P